INTERNATIONAL TRADE COMMISSION

Privacy Act of 1974; System of Records

AGENCY: United States International Trade Commission.

ACTION: Rescindment of a system of records notice.

SUMMARY: The system of records ITC-10 (Mailing List Records) contained records of requests by individuals for placement on a Commission mailing list. These records were used to maintain the names and addresses of individuals and/or organizations that requested copies of agency publications.

DATES: The Commission stopped maintaining this system of records on June 11, 2014.

ADDRESSES: Written comments on the rescindment of this system of records notice must be received by the Secretary to the Commission no later than October 27, 2017. The rescindment will become effective on that date unless otherwise published in the Federal Register.

You may submit comments, identified by docket number MISC-043, by any of the following methods:

Federal eRulemaking Portal: https://www.regulations.gov. Follow the instructions for submitting comments.

Agency Web site: https://edis.usitc.gov. Follow the instructions for submitting comments on the Web site.

Mail: For paper submission. U.S. International Trade Commission, 500 E Street SW., Room 112A, Washington, DC 20436.

Hand Delivery/Courier: U.S. International Trade Commission, 500 E Street SW., Room 112A, Washington, DC 20436. From the hours of 8:45 a.m. to 5:15 p.m.

Instructions: All submissions received must include the agency name and docket number (MISC-043), along with a cover letter. Persons filing comments must file the original document electronically on https://edis.usitc.gov; any personal information provided will be viewable by the public. For paper copies, a signed original and 8 copies of each set of comments should be submitted to Lisa R. Barton, Secretary, U.S. International Trade Commission, 500 E Street SW., Room 112A, Washington, DC 20436.

For access to the docket to read background documents or comments received, go to https://edis.usitc.gov. and/or the U.S. International Trade Commission, 500 E Street SW., Room 112A, Washington, DC 20436.

FOR FURTHER INFORMATION CONTACT: Lisa R. Barton, Secretary, U.S. International Trade Commission, 500 E Street SW., Washington, DC 20436, tel. 202-205-2000. Hearing-impaired persons can obtain information on this matter by contacting the Commission's TDD terminal on 202-205-1810. Persons with mobility impairments who will need special assistance in gaining access to the Commission should contact the Office of the Secretary at 202-205-2000.

SUPPLEMENTARY INFORMATION: The Commission discontinued providing paper copies of its publications in June 2014, and no longer has a need for mailing list records. The records contained in this system have been destroyed.

SYSTEM NUMBER

ITC-10

SYSTEM NAME:

(Mailing List Records)

HISTORY:

The Commission previously published notice of this system of records at 71 FR 35294 (June 19, 2006).

By order of the Commission.
Issued: September 21, 2017.
Lisa R. Barton,
Secretary to the Commission.

[FR Doc. 2017-20616 Filed 9-26-17; 8:45 am]

BILLING CODE 7020-02-P